COMMODITY FUTURES TRADING COMMISSION

17 CFR Part 4

Commodity Pool Operators and Commodity Trading Advisors; Exemption From Requirement To Register for CPOs of Certain Pools and CTAs Advising Such Pools

AGENCY: Commodity Futures Trading Commission.

ACTION: Extension of comment period.

SUMMARY: The Commodity Futures Trading Commission (Commission) is extending the comment period for the advance notice of proposed rulemaking (ANPR) with respect to providing additional exemptions from registration as a commodity pool operator (CPO) or commodity trading advisor (CTA). The new deadline for submitting public comments is January 23, 2003.

DATES: Written comments must be received on or before January 23, 2003.

ADDRESSES: Comments on the advance notice of proposed rulemaking should be sent to Jean A. Webb, Secretary, Commodity Futures Trading Commission, Three Lafayette Center, 1155 21st Street, NW., Washington, DC 20581. Comments may be sent by facsimile transmission to (202) 418-5528, or by e-mail to secretary@cftc.gov. Reference should be made to “Advance Notice of Proposed Rulemaking on CPO and CTA Registration Exemptions.”

FOR FURTHER INFORMATION CONTACT: Barbara S. Gold, Associate Director, Division of Clearing and Intermediary Oversight, or Christopher W. Cummings, Special Counsel, Division of Clearing and Intermediary Oversight, Commodity Futures Trading Commission, 1155 21st Street, NW., Washington, DC 20581, telephone number: (202) 418-5450 or (202) 418-5445, respectively; facsimile number: (202) 418-5536, or (202) 418-5547, respectively; and electronic mail: bgold@cftc.gov or ccummings@cftc.gov, respectively.

SUPPLEMENTARY INFORMATION: On November 13, 2002, the Commission published the ANPR,¹ which sought comment on two specific proposals that the Commission had received to provide additional exemption from registration as a CPO, and on a proposal that would provide additional exemption from registration as a CTA. The ANPR also provided temporary CPO and CTA registration no-action relief, provided certain specified criteria were met. The ANPR established a 60-day period for submitting public comment, ending January 13, 2003.

¹ 67 FR 68785.

By letter dated January 9, 2003, a membership organization for futures and securities investment professionals requested an extension of the ANPR's comment period until January 23, 2003, so that additional parties who could not meet the original January 13 deadline could submit comment letters. The request claims that granting the extension would provide the Commission with additional public comments with which to proceed with the contemplated rulemaking. This, in turn, would facilitate a comprehensive treatment of related issues.

In response to this request and in order to ensure that an adequate opportunity is provided for submission of meaningful comments, the Commission has determined to extend the comment period for the ANPR for an additional ten days to January 23, 2003.

Issued in Washington, DC, on January 10, 2003, by the Commission.
Jean A. Webb,
Secretary of the Commission.

[FR Doc. 03-894 Filed 1-15-03; 8:45 am]

BILLING CODE 6351-01-M